DEPARTMENT OF JUSTICE

Notice of Task Force on Research on Violence Against American Indian and Alaska Native Women Meeting

AGENCY: Office on Violence Against Women, United States Department of Justice.

ACTION: Notice of meeting.

SUMMARY: The Office on Violence Against Women (OVW), U.S. Department of Justice has scheduled a meeting of the Task Force on Research on Violence Against American Indian and Alaska Native Women (hereinafter “the Task Force”).

DATES: The meeting will take place on December 13, 2022, from 1 p.m. to 5 p.m. (Eastern Standard Time).

ADDRESSES: This meeting will be convened virtually.

FOR FURTHER INFORMATION CONTACT: Visit the OVW website at https://www.justice.gov/ovw/section-904-task-force or contact Sherriann Moore, Deputy Director of Tribal Affairs, Office on Violence Against Women, United States Department of Justice, at (202) 616-0039 or ovw.tribalaffairs@usdoj.gov.

SUPPLEMENTARY INFORMATION: Notice of this meeting is required under section 10(a)(2) of the Federal Advisory Committee Act. Title IX of the Violence Against Women Act of 2005 (VAWA 2005), as amended, required the Attorney General to establish a task force to assist the National Institute of Justice (NIJ) in developing and implementing a program of research on violence against American Indian and Alaska Native women, including domestic violence, dating violence, sexual assault, stalking, sex trafficking, and murder. The program will evaluate the effectiveness of the federal, state, tribal, and local response to violence against Indian women and propose recommendations to improve the government response. The Attorney General, acting through the Director of the Office on Violence Against Women, established the Task Force on March 31, 2008, and the charter has been renewed every two years since then.

More information on the Task Force may be found at https://www.justice.gov/ovw/section-904-task-force and about the NIJ program of research at: https://nij.ojp.gov/topics/articles/violence-against-american-indian-and-alaska-native-women-program-research.

This meeting will include the introduction of Task Force members, an update on NIJ's research program, and facilitated Task Force discussion on research findings and recommendations. In addition, the Task Force is also welcoming public oral comment at this meeting and has reserved 30 minutes for this. The meeting will take place on December 13, 2022, from 1 p.m. to 5 p.m. Time will be reserved for public comment from 4:15 p.m. to 4:45 p.m. See the section below for information on reserving time for public comment.

Access: The meeting will be available online via a video conferencing platform. Members of the public who wish to participate must register in advance of the meeting online, no later than December 7, 2022. Details about registration can be found on the OVW website: https://www.justice.gov/ovw/section-904-task-force. Should issues arise with online or email registration, the public should contact Sherriann C. Moore, Deputy Director of Tribal Affairs, Office on Violence Against Women, at (202) 616-0039 or ovw.tribalaffairs@usdoj.gov.

Written Comments: Interested parties are invited to submit written comments by December 7, 2022, to Sherriann C. Moore, Deputy Director of Tribal Affairs, Office on Violence Against Women, at (202) 616-0039 or ovw.tribalaffairs@usdoj.gov.

Public Comment: Persons interested in participating during the public comment period of the meeting are requested to reserve time on the agenda by contacting Sherriann C. Moore, Deputy Director of Tribal Affairs, Office on Violence Against Women, at (202) 616-0039 or ovw.tribalaffairs@usdoj.gov. Requests must include the participant's name, the organization represented, if appropriate, and a brief description of the subject of the comments. Each participant will be permitted approximately 3 to 5 minutes to present comments, depending on the number of individuals reserving time on the agenda. Participants are also encouraged to submit written copies of their comments at the meeting. Comments that are submitted to Sherriann C. Moore, Deputy Director of Tribal Affairs, Office on Violence Against Women, at (202) 616-0039 or ovw.tribalaffairs@usdoj.gov before December 7, 2022, will be circulated to Task Force members prior to the meeting.

Given the expected number of individuals interested in presenting comments at the meeting, reservations should be made as soon as possible.

Allison Randall,
Acting Director, Office on Violence Against Women.

[FR Doc. 2022-25280 Filed 11-18-22; 8:45 am]

BILLING CODE 4410-FX-P